DEPARTMENT OF THE INTERIOR

Office of the Secretary

[25XD4523WS; DS62200000; DWSN00000.000000; DP.62206; OMB Control Number 1090-0009]

Agency Information Collection Activities; Donor Certification Form

AGENCY: Office of Financial Management, Office of the Secretary, Interior.

ACTION: Notice of information collection; request for comment.

SUMMARY: In accordance with the Paperwork Reduction Act of 1995, we, the Office of Financial Management, Office of the Secretary, Department of the Interior, propose to renew an information collection.

DATES: Interested persons are invited to submit comments. To ensure your comments are considered, we must receive your comments on or before July 7, 2025.

ADDRESSES: Send your comments on this information collection request (ICR) by mail to Joshua Kamp, Office of Financial Management, 1849 C St. NW, MS 2557 MIB, Washington, DC 20240; or by email to Joshua_Kamp@ios.doi.gov. Please reference Office of Management and Budget (OMB) Control Number 1090-0009 in the subject line of your comments.

FOR FURTHER INFORMATION CONTACT: To request additional information about this ICR, contact Joshua Kamp, Office of Financial Management, 1849 C St. NW, MS 2557 MIB, Washington, DC 20240; or by email to Joshua_Kamp@ios.doi.gov or by telephone at 202-208-4610. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA), 44 U.S.C. 3501 et seq., and 5 CFR 1320.8(d)(1), all information collections require prior approval. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This notice identifies an information collection that the Office of Financial Management has submitted to OMB for approval to allow the Department and its bureaus and offices to continue collecting information from prospective donors relative to their relationships with the Department. The Department and its bureaus and offices have gift acceptance authorities. In support of its many donation authorities and the increasing numbers of donations, the Department's policy is to ask those proposing to donate gifts valued at $25,000 or more to provide information regarding their relationships with the Department. This policy ensures that the acceptance of a gift does not create legal or ethical issues for the donors and the Department donees. A form is used to collect information relevant to the acceptability of the proposed donation in conformance with the Department's donations policy. Prospective donors complete the form, certify the information on it, and submit the form to the Department donee for review. The donor's certification of any interactions with the Department gives the staff vetting the proposed donation basic information to be verified, resulting in a more efficient and timely donation review process.

Title of Collection: Donor Certification Form.

OMB Control Number: 1090-0009.

Form Number: DI-3680.

Type of Review: Extension of a currently approved collection.

Respondents/Affected Public: Individuals/households, businesses, not-for-profit institutions, Tribal governments.

Total Estimated Number of Annual Respondents: 250.

Total Estimated Number of Annual Responses: 250.

Estimated Completion Time per Response: 20 minutes.

Total Estimated Number of Annual Burden Hours: 83 hours.

Respondent's Obligation: Voluntary.

Frequency of Collection: Once per prospective donor per fiscal year.

Total Estimated Annual Nonhour Burden Cost: None.

An agency may not conduct or sponsor and a person is not required to respond to a collection of information unless it displays a currently valid OMB control number.

The authority for this action is the Paperwork Reduction Act of 1995 (44 U.S.C. 3501 et seq.).

Tonya R. Johnson-Simmons,
Deputy Chief Financial Officer.

[FR Doc. 2025-07892 Filed 5-6-25; 8:45 am]

BILLING CODE 4334-32-P